COMMISSION ON CIVIL RIGHTS

Notice of Public Meeting of the Nebraska Advisory Committee to the U.S. Commission on Civil Rights

AGENCY: Commission on Civil Rights.

ACTION: Announcement of meeting.

SUMMARY: Notice is hereby given, pursuant to the provisions of the rules and regulations of the U.S. Commission on Civil Rights (Commission) and the Federal Advisory Committee Act that the Nebraska Advisory Committee (Committee) to the U.S. Commission on Civil Rights will hold a planning meeting via web conference. The purpose of the meeting will be to discuss their project on to the Effects of the COVID-19 Pandemic on K-12 Education in the state.

DATES: Tuesday, December 12, 2023 at 12:00 p.m. Central Time.

ADDRESSES: The meeting will be held via Zoom.

December 12th Planning Meeting:

Registration Link (Audio/Visual): https://www.zoomgov.com/j/1609471833?pwd=VXpXMExxMTd0cGtKZFpUYUpNUmFZUT09.

Join by Phone (Audio Only): 1-833-435-1820 USA Toll Free; Meeting ID: 160 947 1833.

FOR FURTHER INFORMATION CONTACT: Victoria Moreno, DFO, at vmoreno@usccr.gov or by phone at 434-515-0204.

SUPPLEMENTARY INFORMATION: Members of the public may listen to the discussions through the above call-in numbers (audio only) or online registration links (audio/visual). An open comment period at each meeting will be provided to allow members of the public to make a statement as time allows. Callers can expect to incur regular charges for calls they initiate over wireless lines, according to their wireless plan. The Commission will not refund any incurred charges. Callers will incur no charge for calls they initiate over land-line connections to the toll-free telephone number. Individuals who are deaf, deafblind, and/or hard of hearing may also follow the proceedings by first calling the Federal Relay Service at 1-800-877-8339 and providing the Service with the conference call number and meeting ID number.

Members of the public are entitled to submit written comments; the comments must be received in the regional office within 30 days following the meetings. Written comments may be emailed to Victoria at vmoreno@usccr.gov.

Records generated from this meeting may be inspected and reproduced at the Regional Programs Unit Office, as they become available, both before and after the meetings. Records of the meetings will be available via www.facadatabase.gov under the Commission on Civil Rights, Nebraska Advisory Committee link. Persons interested in the work of this Committee are directed to the Commission's website, http://www.usccr.gov, or may contact the Regional Programs Unit at the above email or street address.

Agenda

I. Welcome and Roll Call

II. Chair's Comments

III. Committee Business

IV. Public Comment

V. Adjournment

Dated: November 17, 2023.
David Mussatt,
Supervisory Chief, Regional Programs Unit.

[FR Doc. 2023-25843 Filed 11-21-23; 8:45 am]

BILLING CODE P